ENVIRONMENTAL PROTECTION AGENCY

[FRL-6837-2]

Agency Information Collection Activities: Submission for OMB Review; Comment Request; Land Disposal Restrictions No-Migration Variances

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Land Disposal Restrictions No-Migration Variances, OMB Control Number 2050-0062, EPA ICR No. 1353.06 expiring on August 31, 2000. The ICR describes the nature of the information collection and its expected burden and cost; where appropriate, it includes the actual data collection instrument.

DATES: Comments must be submitted on or before August 16, 2000.

FOR FURTHER INFORMATION CONTACT: For a copy of the ICR, contact Sandy Farmer at EPA by phone at (202) 260-2740, by email at farmer.sandy@epamail.epa.gov, or download a copy of the ICR off the Internet at http://www.epa.gov/icr and refer to EPA ICR No. 1353.06. For technical questions about the ICR contact David A. Eberly on 703-308-8645.

SUPPLEMENTARY INFORMATION: Title: Land Disposal Restrictions No-Migration Variances, OMB Control Number 2050-0062, EPA ICR No. 1353.06, expiring August 31, 2000. This is a request for extension of a currently approved collection.

Abstract: To receive a variance from the hazardous waste land disposal prohibitions, owner/operators of hazardous waste storage or disposal facilities may petition the Environmental Protection Agency to allow land disposal of a specific restricted waste at a specific site. The EPA Regional Offices will review the petitions and determine if they successfully demonstrate “no migration.” The applicant must demonstrate that hazardous wastes can be managed safely in a particular land disposal unit, so that “no migration” of any hazardous constituents occurs from the unit for as long as the waste remains hazardous. If EPA grants the variance, the waste is no longer prohibited from land disposal in that particular unit. If the owner/operator fails to make this demonstration, or chooses not to petition for the variance, best demonstrated available technology (BDAT) requirements of 40 CFR 268.40 must be met before the hazardous wastes are placed in a land disposal unit.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on February 22, 2000 (65 FR 8699); no comments were received.

Burden Statement: The annual public reporting and recordkeeping burden for this collection of information is estimated to average 3,137 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 1.

Estimated Number of Respondents: 1.

Frequency of Response: once every three years.

Estimated Total Annual Hour Burden: 3,137 hours.

Estimated Total Annualized Capital, O&M Cost Burden: $72.

Send comments on the Agency's need for this information, the accuracy of the provided burden estimates, and any suggested methods for minimizing respondent burden, including through the use of automated collection techniques to the following addresses. Please refer to EPA ICR No. 1353.06 and OMB Control No. 2050-0062 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: July 1, 2000.
Oscar Morales,
Director, Collection Strategies Division.

[FR Doc. 00-18026 Filed 7-14-00; 8:45 am]

BILLING CODE 6560-50-P